DEPARTMENT OF HOMELAND SECURITY

Federal Emergency Management Agency

[Docket ID FEMA-2018-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 20, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov. The flood hazard determinations are made final in the watersheds and/or communities listed in the table below.

(Catalog of Federal Domestic Assistance No. 97.022, “Flood Insurance.”)

Date: May 1, 2018.
David I. Maurstad,
Deputy Associate Administrator for Insurance and Mitigation (Acting), Department of Homeland Security, Federal Emergency Management Agency.

Community | Community map repository address
Kent County, Delaware and Incorporated Areas Docket No.: FEMA-B-1701
Unincorporated Areas of Kent County | Kent County Administrative Complex, Department of Planning Services, 555 Bay Road, Dover, DE 19901.
Sussex County, Delaware and Incorporated Areas Docket No.: FEMA-B-1701
City of Seaford | City Hall, 414 High Street, Seaford, DE 19973.
Town of Bridgeville | Town Hall, 101 North Main Street, Bridgeville, DE 19933.
Town of Georgetown | Town Hall, 39 The Circle, Georgetown, DE 19947.
Town of Laurel | Code Enforcement Office, 201 Mechanic Street, Laurel, DE 19956.
Town of Millsboro | Town Center, 322 Wilson Highway, Millsboro, DE 19966.
Unincorporated Areas of Sussex County | Sussex County Planning and Zoning Department, 2 The Circle, Georgetown, DE 19947.
Orange County, Florida and Incorporated Areas Docket No.: FEMA-B-1701
City of Orlando | City Hall, Permitting Services, 400 South Orange Avenue, 1st Floor, Orlando, FL 32801.
Unincorporated Areas of Orange County | Orange County Stormwater Management Division, 4200 South John Young Parkway, Orlando, FL 32839.
Bladen County, North Carolina and Incorporated Areas Docket No.: FEMA-B-1523
Unincorporated Areas of Bladen County | Bladen County Planning Department, 450 Smith Circle #N8, Elizabethtown, NC 28337.
Cumberland County, North Carolina and Incorporated Areas Docket No.: FEMA-B-1445
Unincorporated Areas of Cumberland County | Cumberland County Engineering and Infrastructure Department, 130 Gillespie Street, Fayetteville, NC 28301.
Duplin County, North Carolina and Incorporated Areas Docket No.: FEMA-B-1523
Town of Beulaville | Town Hall, 508 East Main Street, Beulaville, NC 28518.
Town of Wallace | Town Hall, 316 East Murray Street, Wallace, NC 28466.
Town of Warsaw | Town Hall, 121 South Front Street, Warsaw, NC 28398.
Unincorporated Areas of Duplin County | Duplin County Planning Department, 117 Beasley Street, Kenansville, NC 28349.
Johnston County, North Carolina and Incorporated Areas Docket No.: FEMA-B-1445
Town of Clayton | Town Hall, 111 East 2nd Street, Clayton, NC 27520.
Town of Four Oaks | Town Hall, 304 North Main Street, Four Oaks, NC 27524.
Town of Pine Level | Town Hall, 306 East Brown Street, Pine Level, NC 27568.
Town of Princeton | Town Hall, 503 Doctor Donnie H. Jones, Jr. Boulevard W, Princeton, NC 27569.
Town of Selma | Planning Department, 114 North Raiford Street, Selma, NC 27576.
Town of Smithfield | Town Hall, 350 East Market Street, Smithfield, NC 27577.
Town of Wilson's Mills | Town Hall, 100 Railroad Street, Wilson's Mills, NC 27593.
Unincorporated Areas of Johnston County | Johnston County Planning Department, 309 East Market Street, Smithfield, NC 27577.
Sampson County, North Carolina and Incorporated Areas Docket No.: FEMA-B-1523
City of Clinton | Clinton-Sampson Planning and Zoning, 227 Lisbon Street, Clinton, NC 28328.
Town of Autryville | Town Hall, 215 North Gray Street, Autryville, NC 28318.
Town of Garland | Town Hall, 190 South Church Street, Garland, NC 28441.
Town of Newton Grove | Town Hall, 304 West Weeksdale Street, Newton Grove, NC 28366.
Unincorporated Areas of Sampson County | Sampson County Planning and Zoning Department, 227 Lisbon Street, Clinton, NC 28328.
Wayne County, North Carolina and Incorporated Areas Docket No.: FEMA-B-1445
City of Goldsboro | City Hall, 222 North Center Street, Goldsboro, NC 27530.
Town of Fremont | Town Hall, 120 East Main Street, Fremont, NC 27830.
Town of Mount Olive | Town Hall, 114 East James Street, Mount Olive, NC 28365.
Town of Pikeville | Town Hall, 100 West School Street, Pikeville, NC 27863.
Unincorporated Areas of Wayne County | Wayne County Manager's Office, 224 East Walnut Street, Goldsboro, NC 27533.
Village of Walnut Creek | Walnut Creek Village Hall, 100 Village Drive, Goldsboro, NC 27532.

[FR Doc. 2018-09773 Filed 5-7-18; 8:45 am]

BILLING CODE 9110-12-P